DEPARTMENT OF JUSTICE

Notice of Lodging of Proposed Consent Decree Under the Comprehensive Environmental Response, Compensation, and Liability Act

On February 13, 2019, the Department of Justice lodged a proposed Consent Decree (“Consent Decree”) with the United States District Court for the Western District of New York in the lawsuit entitled United States v. Hillcrest Industries, Inc., Civil Action No. 1:18-cv-99. In the filed Complaint, the United States, on behalf of the U.S. Environmental Protection Agency (“EPA”), alleges that Hillcrest Industries, Inc. (“Hillcrest”) is liable under the Comprehensive Environmental Response, Compensation, and Liability Act, 42 U.S.C. 9607(a), for the response costs EPA incurred to respond to the releases and/or threatened releases of hazardous substances into the environment from a parcel of property Hillcrest owns and operates. The Consent Decree requires Hillcrest to pay $350,000 in quarterly installment payments of $20,000 each.

The publication of this notice opens a period for public comment on the Consent Decree. Comments should be addressed to the Assistant Attorney General, Environment and Natural Resources Division, and should refer to United States v. Hillcrest Industries, Inc., D.J. Ref. No. 90-11-3-11525. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $9.50 (25 cents per page reproduction cost), payable to the United States Treasury.

Robert Maher,
Assistant Section Chief, Environmental Enforcement Section, Environment & Natural Resources Division.

[FR Doc. 2019-03276 Filed 2-25-19; 8:45 am]

BILLING CODE 4410-15-P